DEPARTMENT OF COMMERCE

Foreign-Trade Zones Board

[Docket 30-2008]

Foreign-Trade Zone 30—Salt Lake City, UT; Application for Reorganization and Expansion

An application has been submitted to the Foreign-Trade Zones Board (the Board) by the Salt Lake City Corporation, grantee of Foreign-Trade Zone 30, requesting authority to expand and reorganize its zone in Salt Lake City, Utah, within the Salt Lake City Customs and Border Protection port of entry. The application was submitted pursuant to the provisions of the Foreign-Trade Zones Act, as amended (19 U.S.C. 81a-81u), and the regulations of the Board (15 CFR Part 400). It was formally filed on May 8, 2008.

FTZ 30 was approved by the Board on May 26, 1977 (B. O. 119) and currently consists of 33 acres within the 740-acre Salt Lake International Business Park, adjacent to the Salt Lake City International Airport.

The applicant is now requesting authority to reorganize and expand the general-purpose zone by deleting the current site and adding 55 acres located at 1105 South 4800 West, Salt Lake City, Utah. The new site is owned by Rockefeller Group Development Corporation and will be designated as Site 2.

No specific manufacturing requests are being made at this time. Such requests would be made to the Board on a case-by-case basis.

In accordance with the Board's regulations, Claudia Hausler of the FTZ Staff is designated examiner to investigate the application and report to the Board.

Public comment is invited from interested parties. Submissions (original and 3 copies) shall be addressed to the Board's Executive Secretary at the address below. The closing period for their receipt is July 15, 2008. Rebuttal comments in response to material submitted during the foregoing period may be submitted during the subsequent 15-day period to July 30, 2008.

A copy of the application and accompanying exhibits will be available for public inspection at each of the following locations:

U.S. Export Assistance Center, 9690 S. 300 W., Suite 201D, Sandy, Utah 84070;

Office of the Executive Secretary, Foreign-Trade Zones Board, U.S. Department of Commerce, Room 2111, 1401 Constitution Avenue, NW., Washington, DC 20230.

For further information contact Claudia Hausler at Claudia_Hausler@ita.doc.gov or (202)482-1379.

Dated: May 8, 2008.
Andrew McGilvray,
Executive Secretary.

[FR Doc. E8-11048 Filed 5-15-08; 8:45 am]

BILLING CODE 3510-DS-P